COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by nonprofit agency employing persons who are blind or have other severe disabilities, and deletes products previously furnished by such agencies.

DATES: Comments Must Be Received on or Before: October 21, 2013.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entity of the Federal Government identified in this notice will be required to provide the service listed below from a nonprofit agency employing persons who are blind or have other severe disabilities.

The following service is proposed for addition to the Procurement List for provision by the nonprofit agency listed:

Service

Service Type/Location: Janitorial/Custodial Service, National Oceanic & Atmospheric Administration, National Weather Service Office, Except Communication & Electrical Room, 500 Airport Blvd., #115, Lake Charles, LA.

NPA: Calcasieu Association for Retarded Citizens, Inc., Lake Charles, LA.

Contracting Activity: DEPT OF COMMERCE, NATIONAL OCEANIC AND ATMOSPHERIC ADMINISTRATION, BOULDER, CO.

Deletions

The following products are proposed for deletion from the Procurement List:

Products

Marker Board, Wall Mounted

NSN: 7195-01-567-9516—Cork Tiles, Self-Stick, 12″ x 12″, unframed

NPA: The Lighthouse for the Blind, Inc. (Seattle Lighthouse), Seattle, WA

Contracting Activities: DEPARTMENT OF VETERANS AFFAIRS, NAC, HINES, IL GENERAL SERVICES ADMINISTRATION, FSS HOUSEHOLD AND INDUSTRIAL FURNITURE, ARLINGTON, VA

Desk Planners

NSN: 7530-01-600-7594—Monthly Desk Planner, Wire Bound, Non-refillable, Black cover

NSN: 7530-01-600-7604—Weekly Desk Planner, Wire Bound, Non-refillable, Black cover

NSN: 7530-01-600-7587—Daily Desk Planner, Wire bound, Non-refillable, Black Cover

NSN: 7530-01-600-7584—Weekly Planner Book, Dated, 5″ x 8″, Digital Camouflage

Desk and Wall Calendars

NSN: 7510-01-600-7620—Monthly Wall Calendar, Dated, Jan-Dec, 8½″ x 11″

NSN: 7510-01-600-7565—Wall Calendar, Dated, Wire Bound w/Hanger, 12″ x 17″

NSN: 7510-01-600-7635—Wall Calendar, Dated, Wire Bound w/hanger, 15.5″ x 22″

Flexible Erasable Wall Planners

NSN: 7510-01-600-8028—Dated 18-month Paper Wall Planner, 24″ x 37″

NSN: 7510-01-600-8043—Dated 12-Month 2-Sided Laminated Wall Planner, 24″ x 37″

NPA: The Chicago Lighthouse for People Who Are Blind or Visually Impaired, Chicago, IL

Contracting Activity: GENERAL SERVICES ADMINISTRATION, NEW YORK, NY

CD/DVD Label Kit and Refills

NSN: 7530-01-554-9537—CD/DVD Label Kit

NPA: North Central Sight Services, Inc., Williamsport, PA

Contracting Activity: GENERAL SERVICES ADMINISTRATION, NEW YORK, NY

Barry S. Lineback,
Director, Business Operations.

[FR Doc. 2013-22888 Filed 9-19-13; 8:45 am]

BILLING CODE 6353-01-P